DEPARTMENT OF HEALTH AND HUMAN SERVICES

National Institutes of Health

Center for Scientific Review; Amended Notice of Meeting

Notice is hereby given of a change in the meeting of the Center for Scientific Review Special Emphasis Panel, NIH Research Enhancement Award (AREA and REAP) (R15), which was published in the Federal Register on February 11, 2020, 85 FR 7773.

The meeting start date is being changed to 4/23/2020 start time 12:00 p.m. and ending 4/24/2020 5:00 p.m. The location remains the same. The meeting is closed to the public.

Dated: February 14, 2020.
Natasha M. Copeland,
Deputy Director, Office of Federal Advisory Committee Policy.

[FR Doc. 2020-03341 Filed 2-19-20; 8:45 am]

BILLING CODE 4140-01-P